DEPARTMENT OF LABOR

Employment and Training Administration

America's Job Bank

AGENCY: Employment and Training Administration, Labor.

ACTION: Notice.

SUMMARY: The U.S. Department of Labor's (USDOL) Employment and Training Administration (ETA) intends to provide hyperlinks to Web sites to aid customers to find an alternative job bank when America's Job Bank (AJB) is phased out on June 30, 2007. ETA is issuing this notice to solicit information from private-sector job bank Web sites interested in applying to be included in the list of Web links.

DATES: All interested parties are asked to submit the information requested in this notice at the Web site: http://www.ajbtransition.org. Information must be submitted no later than February 26, 2007.

ADDRESSES: Address all comments concerning this notice to Anthony D. Dais, U.S. Department of Labor, Employment and Training Administration, 200 Constitution Avenue, NW., Room S-4231, Washington, DC 20210; or e-mail ajbtransition@dol.gov; or transmit via fax at 202-693-3015 (this is not a toll-free number).

FOR FURTHER INFORMATION CONTACT: Anthony D. Dais, at telephone number 202-693-2650 (this is not a toll-free number).

SUPPLEMENTARY INFORMATION: ETA's transition plan for the phase-out of AJB includes developing the ability to direct employers and job seekers to both public and private sector job banks. This will be accomplished by providing a ‘list of Web links' to qualified Web sites during the AJB phase-out period. The ‘list of Web links' (to include all state workforce agency job banks) will be available for a period of time both before and after the phase-out of AJB on June 30, 2007. ETA will select Web sites to be included in the list of links from applications meeting the requirements of this notice. ETA reserves the right to use the listings for multiple Federal purposes, to edit, and to remove the ‘list of Web links' at its sole discretion.

Solicitation for Information About Private, and Non-Profit Sector Job Banks

Organizations that operate private and/or non-profit sector job banks or bulletin boards that wish to be considered for inclusion on the ‘list of Web links' are invited to provide information about the services they provide.

1. Mandatory Requirements. ETA will only consider for inclusion on this list, a job bank or bulletin board that provides information about the following mandatory requirements:

• Is available via the Internet;

• Is national in scope, accepting job orders and resumes from all employers and job seekers in all States and Territories and accepting job orders from all occupational categories and industries;

• Has been in the business of providing job bank services over the Internet for at least the past 18 months;

• Does not require a registration fee or membership fee for job seekers to search for jobs;

• Has a state or federal employer identification number (EIN); and

• Offers functionality similar to that currently provided by AJB:

• Accepts job orders from employers;

• Accepts resumes from job seekers at no cost;

• Provides matching capability between job seeker resumes and employer job postings at no cost to the job seeker;

• Provides the ability for a ‘geographical location or area specific' search;

• Monitors job postings to assure there are no discriminatory language or requirements; and

• Provides feedback to job posting organizations that their jobs have been accepted and posted to the Web site.

2. Additional Information. To help job seekers and employers understand the services offered, private and non-profit job bank or bulletin board organizations must provide additional information. To be included in the list of Web hyperlinks a job bank or bulletin board must provide information about the availability of the services listed below:

• Machine language translation services for Spanish speakers;

• “Job Scout” capability;

• Compliance with section 508 of the Americans with Disabilities Act; and

• Specialized service to:

○ Veterans, transitioning military service members and military spouses;

○ Youth;

○ Mature workers;

○ Migrant and seasonal farmworkers; and

○ Other (please specify).

In order to be considered for inclusion on the ‘list of Web links', an organization operating a job bank or bulletin board must meet all mandatory requirements and must respond to all of the “additional information” questions. Submittals that do not address the mandatory requirements and the additional information functionality questions will not be considered for inclusion. Please note, however, that the information provided regarding the “additional information” questions is not used to disqualify a site, but will be used to provide helpful information to those seeking information about alternatives to AJB. Information must be submitted at the www.ajbtransition.org web site no later than close of business February 26, 2007. State workforce agencies need not respond to this notice to be included in the job bank listing. States have already submitted information to ETA and the State's AJB transition coordinator can provide updated information at any time.

Solicitation for Information About Internet Gateway or Portal Sites

Organizations that operate portal or gateway Web sites that provide information about Job Banks (Public, Private, National, Regional, Niche); Recruiting Services and Directories; and Recruiters are invited to provide information about the services they provide.

1. Mandatory Requirements. To be considered for inclusion on the ‘list of Web links', a portal site must:

• Be available via the Internet;

• Be national in scope;

• Have been in business providing job bank portal information services over the Internet for at least the past 18 months;

• Not require a registration fee or membership fee for job seekers to search for job search assistance;

• Have a state or federal employer identification number; and

2. Additional Information. To help job seekers and employers navigate the many portal sites included in the ‘list of Web links', portal sites must provide additional information including, but not limited to, the following:

• Machine language translation services for Spanish speakers;

• Compliance with section 508 of the Americans with Disabilities Act;

• Specialized service to:

○ Veterans, transitioning military service members and military spouses;

○ Youth;

○ Mature workers;

○ Migrant and seasonal farmworkers;

○ Business/Trade Associations or organizations; and

○ Other (please specify).

In order to be considered for inclusion on the ‘list of Web links', an organization operating a portal or gateway site must meet all mandatory requirements and must respond to all of the “additional information” questions. Submittals that do not address the mandatory requirements and the additional information functionality questions will not be considered for inclusion. Please note, however, that the information provided to the “additional information” questions is not used to disqualify a site, but will be used to provide helpful information to those seeking information about alternatives to AJB. Information must be submitted at the www.ajbtransition.org Web site no later than close of business February 26, 2007.

Each submittal from either a job board or portal site organization must include an attestation that the information provided is true and accurate. This attestation must be from an organizational representative who has the authority to represent the organization. The attestation must clearly identify the name, title, e-mail address, and phone number of the attester. Failure to include a complete attestation statement will result in the submittal not being considered for inclusion.

At this time ETA anticipates listing all organizations offering job banks/bulletin boards or portal/gateway sites that meet the standards set forth in this notice. However, if the response to this notice is greater that anticipated, ETA reserves the right to limit the list to a manageable size.

Signed at Washington, DC, this 17th day of January, 2006.
Emily Stover DeRocco,
Assistant Secretary for Employment and Training.

[FR Doc. E7-1106 Filed 1-24-07; 8:45 am]

BILLING CODE 4510-30-P